DEPARTMENT OF LABOR

Occupational Safety and Health Administration

[Docket No. OSHA-2011-0116]

Federal Advisory Council on Occupational Safety and Health (FACOSH)

AGENCY: Occupational Safety and Health Administration (OSHA), Labor.

ACTION: Request for nominations to serve on the Federal Advisory Council on Occupational Safety and Health (FACOSH).

SUMMARY: The Assistant Secretary of Labor for Occupational Safety and Health (OSHA) invites interested parties to submit nominations for membership on FACOSH.

DATES: Nominations for FACOSH must be submitted (postmarked, sent, transmitted, or received) by September 6, 2011.

ADDRESSES: You may submit nominations and supporting materials by one of the following methods:

Electronically: Nominations, including attachments, may be submitted electronically at http://www.regulations.gov, the Federal eRulemaking Portal. Follow the online instructions for submitting nominations;

Facsimile: If your nomination and supporting materials, including attachments, do not exceed 10 pages, you may fax them to the OSHA Docket Office at (202) 693-1648;

Mail, express delivery, hand delivery, messenger or courier service: Submit your nominations and supporting materials to the OSHA Docket Office, Docket No. OSHA-2011-0116, Room N-2625, U.S. Department of Labor, 200 Constitution Avenue, NW., Washington, DC 20210; telephone (202) 693-2350 (TTY number (877) 889-5627). Deliveries by hand, express mail, messenger, and courier service are accepted during the Department of Labor's and OSHA Docket Office's normal business hours, 8:15 a.m.-4:45 p.m., E.T.

Instructions: All nominations and supporting materials must include the Agency name and docket number for this Federal Register notice (Docket No. OSHA-2011-0116). Because of security-related procedures, submitting nominations by regular mail may result in a significant delay in their receipt. Please contact the OSHA Docket Office for information about security procedures for submitting nominations by hand delivery, express delivery, and messenger or courier service. For additional information on submitting nominations, see the “Public Participation—Submission of Nominations and Access to Docket” heading in the SUPPLEMENTARY INFORMATION section below.

Submissions in response to this Federal Register notice, including personal information provided, are posted without change at http://www.regulations.gov. Therefore, OSHA cautions interested parties about submitting personal information such as Social Security numbers and birth dates.

FOR FURTHER INFORMATION CONTACT: For press inquiries: Mr. Francis Meilinger, OSHA, Office of Communications, Room N-3647, U.S. Department of Labor, 200 Constitution Avenue, NW., Washington, DC 20210; telephone (202) 693-1999.

For general information: Mr. Francis Yebesi, OSHA, Office of Federal Agency Programs, Directorate of Enforcement Programs, Room N-3622, U.S. Department of Labor, 200 Constitution Avenue, NW., Washington, DC 20210; telephone (202) 693-2122; e-mail ofap@dol.gov.

SUPPLEMENTARY INFORMATION: The Assistant Secretary of OSHA invites interested parties to submit nominations for membership on FACOSH.

Background. FACOSH is authorized to advise the Secretary of Labor (Secretary) on all matters relating to the occupational safety and health of Federal employees (Occupational Safety and Health Act of 1970 (29 U.S.C. 668), 5 U.S.C. 7902, Executive Orders 12196 and 13511). This includes providing advice on how to reduce and keep to a minimum the number of injuries and illnesses in the Federal workforce and how to encourage the establishment and maintenance of effective occupational safety and health programs in each Federal agency.

FACOSH membership. FACOSH is comprised of 16 members, who the Secretary appoints to staggered terms not to exceed three (3) years. The Assistant Secretary, who chairs FACOSH, is seeking nominations to fill six (6) positions on FACOSH that become vacant on January 1, 2012. The Secretary will appoint the new members to three (3)-year terms.

The categories of FACOSH membership, and the number of new members to be appointed, are:

• Eight (8) members are Federal agency management representatives: three (3) management representatives will be appointed; and

• Eight (8) members are representatives of labor organizations representing Federal employees: three (3) Federal employee representatives will be appointed.

FACOSH members serve at the pleasure of the Secretary unless the member is no longer qualified to serve, resigns, or is removed by the Secretary. The Secretary may appoint FACOSH members to successive terms. FACOSH meets at least two (2) times a year.

The Department of Labor is committed to equal opportunity in the workplace and seeks broad-based and diverse FACOSH membership. Any interested person or organization may nominate one (1) or more qualified persons for membership on FACOSH. Interested persons also are invited and encouraged to submit statements in support of particular nominees.

Nomination requirements. Nominations must include the following information:

1. The nominee's contact information and current occupation or position;

2. Nominee's resume or curriculum vitae, including prior membership on FACOSH and other relevant organizations, associations and committees;

3. Category of membership (management, labor) the nominee is qualified to represent;

4. A summary of the nominee's background, experience and qualifications that addresses the nominee's suitability for the nominated membership category;

5. Articles or other documents the nominee has authored that indicate the nominee's knowledge, experience, and expertise in occupational safety and health, particularly as it pertains to the Federal workforce; and

6. A statement that the nominee is aware of the nomination, is willing to regularly attend and participate in FACOSH meetings, and has no apparent conflicts of interest that would preclude membership on FACOSH.

Member selection. The Secretary will appoint FACOSH members based upon criteria including, but not limited to, the nominee's level of responsibility for occupational safety and health matters involving the Federal workforce, experience and competence in occupational safety and health, and willingness and ability to regularly and fully participate in FACOSH meetings. Federal agency management nominees who serve as their agency's Designated Agency Safety and Health Official (DASHO) and labor nominees who are responsible for Federal employee occupational safety and health matters within their respective organizations are preferred as management and labor members, respectively. The information received through the nomination process, along with other relevant sources of information, will assist the Secretary in making appointments to FACOSH. In selecting FACOSH members, the Secretary will consider individuals nominated in response to this Federal Register notice, as well as other qualified individuals. OSHA will publish a list of the new FACOSH members in the Federal Register.

Public Participation—Submission of Nominations and Access to Docket

Instructions for submitting nominations. Interested parties may submit nominations and supplemental materials using one of the methods listed in the ADDRESSES section. All nominations, attachments and other materials must identify the Agency name and the OSHA docket number for this Federal Register notice (Docket No. OSHA 2011-0116). You may supplement electronic nominations by uploading document files electronically. If, instead, you wish to mail additional materials in reference to an electronic or FAX submission, you must submit them to the OSHA Docket Office (see ADDRESSES section). The additional material must clearly identify your electronic nomination by Agency name and docket number (Docket No. OSHA 2011-0116) so that the materials can be attached to the electronic submission.

Because of security-related procedures, the use of regular mail may cause a significant delay in the receipt of nominations. For information about security procedures concerning the delivery of materials by hand, express delivery, messenger or courier service, please contact the OSHA Docket Office (see ADDRESSES section).

All submissions in response to this Federal Register notice are posted without change at http://www.regulations.gov. Therefore, OSHA cautions interested parties about submitting personal information, such as social security numbers and birth dates. Guidance on submitting nominations and materials in response to this Federal Register notice is available at http://www.regulations.gov and from the OSHA Docket Office.

Access to docket. To read or download nominations and additional materials submitted in response to this Federal Register notice, go to Docket No. OSHA-2011-0116 at http://www.regulations.gov. All submissions are listed in the http://www.regulations.gov index; however, some documents (e.g., copyrighted material) are not publicly available to read or download through that Web page. All submissions, including copyrighted material, are available for inspection and copying at the OSHA Docket Office. Contact the OSHA Docket Office for information about materials not available through http://www.regulations.gov and for assistance in using the internet to locate submissions.

Access to this Federal Register notice. Electronic copies of this Federal Register notice are available at http://www.regulations.gov. This document, as well as news releases and other relevant information, also is available at OSHA's Web page at http://www.osha.gov.

Authority and Signature

David Michaels, PhD, MPH, Assistant Secretary of Labor for Occupational Safety and Health, directed the preparation of this notice under the authority granted by section 19 of the Occupational Safety and Health Act of 1970 (29 U.S.C. 668), 5 U.S.C. 7902, the Federal Advisory Committee Act (5 U.S.C. App), Executive Order 12196 and 13511, Secretary of Labor's Order 4-2010 (75 FR 55355, 9/10/2010), 29 CFR Part 1960 (Basic Program Elements of for Federal Employee Occupational Safety and Health Programs), and 41 CFR Part 102-3.

Signed at Washington, DC, on June 30, 2011.
David Michaels,
Assistant Secretary of Labor for Occupational Safety and Health.

[FR Doc. 2011-16897 Filed 7-6-11; 8:45 am]

BILLING CODE 4510-26-P